DEPARTMENT OF COMMERCE

Foreign-Trade Zones Board

[B-47-2013]

Authorization of Production Activity, Foreign-Trade Subzone 123E, Vestas Nacelles America, Inc., (Wind Turbines), Brighton, Denver, Pueblo, and Windsor, Colorado

On May 3, 2013, Vestas Nacelles America, Inc., operator of Subzone 123E in Brighton, Denver, Pueblo, and Windsor, Colorado, submitted a notification of proposed production activity to the Foreign-Trade Zones (FTZ) Board.

The notification was processed in accordance with the regulations of the FTZ Board (15 CFR part 400), including notice in the Federal Register inviting public comment (78 FR 31517, 5-24-2013). The FTZ Board has determined that no further review of the activity is warranted at this time. The production activity described in the notification is authorized, subject to the FTZ Act and the Board's regulations, including Section 400.14.

Dated: September 3, 2013.
Andrew McGilvray,
Executive Secretary.

[FR Doc. 2013-21897 Filed 9-6-13; 8:45 am]

BILLING CODE 3510-DS-P